NATIONAL AERONAUTICS AND SPACE ADMINISTRATION

[Notice (08-077)]

Aerospace Safety Advisory Panel; Meeting.

AGENCY: National Aeronautics and Space Administration (NASA).

ACTION: Notice of Meeting; Correction.

Federal Register Citation of Previous Announcement: 73 FR 58668, Notice Number 08-067, October 7, 2008.

SUMMARY: The National Aeronautics and Space Administration published a document in the Federal Register of October 7, 2008, announcing a meeting of the Aerospace Safety Advisory Panel (ASAP). The document announced an incorrect meeting time.

Correction: Date and time of ASAP meeting is Wednesday, October 23, 2008, 10 a.m. to 12 noon.

FOR FURTHER INFORMATION CONTACT: Ms. Kathy Dakon, Aerospace Safety Advisory Panel Executive Director, National Aeronautics and Space Administration, Washington, DC 20546, (202) 358-0732.

Dated: October 7, 2008.
P. Diane Rausch,
Advisory Committee Management Officer, National Aeronautics and Space Administration.

[FR Doc. E8-24244 Filed 10-9-08; 8:45 am]

BILLING CODE 7510-13-P